DEPARTMENT OF COMMERCE

Foreign-Trade Zones Board

[A(27F)-48-02]

Foreign-Trade Zone 15—Kansas City, MO Redesignation of Foreign-Trade Subzone 15D

Based on a request by the Greater Kansas City Foreign-Trade Zone, Inc., grantee of FTZ 15, for a minor modification of the grant of authority for FTZ Subzone 15D at the Bayer Corporation facilities (Board Order 440, 54 FR 38413, 9/18/89, as expanded by Board Order 1061, 64 FR 63786, 11/22/99), Subzone 15D, Sites 2 and 3, are designated as Subzone 17B. Subzone 15D, comprised of only Site 1, will be operated by Bayer Corporation's Bayer CropScience group. New Subzone 17B, comprised of Sites 2 and 3 from SZ 15D, will be operated by Bayer Corporation's Bayer Health Care group. The authority for the sites, now designated as Subzone 17B, will continue to be based on the FTZ Board's authorization in Board Order 440 and 1061.

Dated: December 4, 2002.
Dennis Puccinelli,
Executive Secretary.

[FR Doc. 02-31377 Filed 12-11-02; 8:45 am]

BILLING CODE 3510-DS-P